DEPARTMENT OF HEALTH AND HUMAN SERVICES

Administration for Children and Families

Proposed Information Collection Activity; National Survey of Early Care and Education COVID-19 Follow-Up (OMB #0970-0391)

AGENCY: Office of Planning, Research, and Evaluation, Administration for Children and Families, HHS.

ACTION: Request for public comment.

SUMMARY: The Administration for Children and Families (ACF), U.S. Department of Health and Human Services (HHS), plans to request from the Office of Management and Budget (OMB) an extension to complete data collection for a two-wave COVID-19 Follow-up data collection currently underway as part of the National Survey of Early Care and Education (NSECE). The objective of the NSECE COVID-19 Follow-up is to document the nation's current supply of early care and education services (that is, home-based providers, center-based providers, and the center-based provider workforce). There are no changes proposed.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: In the context of the COVID-19 pandemic, the NSECE COVID-19 Follow-up will deepen our understanding of the state of ECE supply and the ECE workforce following the initial period of crisis, including changes in supply or departures from and re-entries to the workforce. The NSECE COVID-19 Follow-up will collect information from center-based ECE providers to children birth through age 5 years, not yet in kindergarten, home-based ECE providers that serve children under age 13, as well as the ECE workforce providing these services. The collection consists of three coordinated nationally representative surveys:

1. A two-wave survey of individuals who provided paid care for children under the age of 13 in a residential setting as of 2019 and participated in the 2019 NSECE (Home-based Provider Interview),

2. a two-wave survey of providers of care to children ages 0 through 5 years of age (not yet in kindergarten) in a non-residential setting (Center-based Provider Interview) as of 2019 and that participated in the 2019 NSECE, and

3. a two-wave survey conducted with individuals employed in center-based child care programs working directly with children in classrooms (Center-based Classroom Staff [Workforce] Interview) as of 2019 and who participated in the 2019 NSECE.

Respondents: Home-based providers as of 2019 serving children under 13 years (listed and unlisted paid)—regardless of their status serving children in 2020-2022, center-based child care providers as of 2019 serving children ages 0 through 5 years of age (not yet in kindergarten)—regardless of their status serving children in 2020-2022, and classroom-assigned instructional staff members working with children ages 0 through 5 years of age (not yet in kindergarten) in center-based child care providers as of 2019, regardless of their employment status in 2020-2022.

Annual Burden Estimates: This request is for an extension through spring 2022.

Instrument | Number of respondents (total over request period) | Number of responses per respondent (total over request period) | Average burden per response (in hours) | Total burden (in hours)
Home-based Provider Interview, Wave 2—In ECE during focal week | 2,025 | 1 | 0.35 | 709
Home-based Provider Interview, Wave 2—Not in ECE during focal week | 506 | 1 | 0.25 | 126
Center-based Provider Interview, Wave 2 spring or fall; in ECE during focal week | 3,291 | 1 | 0.38 | 1,251
Center-based Provider Interview, Wave 2 spring or fall; not in ECE during focal week | 1,097 | 1 | 0.22 | 241
Center-based Provider Fall 2021 Funding Receipt Supplement | 1,255 | 1 | 0.20 | 251
Center-based Provider Interview Wave 2 fall; Centers completing in Wave 2 spring also | 1,136 | 1 | 0.29 | 329
(Center-based) Workforce Interview—Wave 2; In ECE during Focal Week | 1,775 | 1 | 0.37 | 657
(Center-based) Workforce Interview—Wave 2; Not in ECE during Focal Week | 874 | 1 | 0.24 | 210

Estimated Total Burden Hours: 3,774.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Care and Development Block Grant (CCDBG) Act of 1990 as amended by the CCDBG Act of 2014 (Pub. L. 113-186).

Mary B. Jones,
ACF/OPRE Certifying Officer.

[FR Doc. 2021-15508 Filed 7-20-21; 8:45 am]

BILLING CODE 4184-23-P